DEPARTMENT OF COMMERCE

International Trade Administration

[A-570-852]

Notice of Antidumping Duty Order: Creatine Monohydrate From the People's Republic of China

AGENCY: Import Administration, International Trade Administration, Department of Commerce.

EFFECTIVE DATE: February 4, 2000.

FOR FURTHER INFORMATION CONTACT: Blanche Ziv, Rosa Jeong, or Ryan Langan, Import Administration, International Trade Administration, U.S. Department of Commerce, 14th Street and Constitution Avenue, NW, Washington, DC 20230; telephone: (202) 482-4207, (202) 482-3853, and (202) 482-1279, respectively.

The Applicable Statute

Unless otherwise indicated, all citations to the Tariff Act of 1930, as amended (“the Act”), are references to the provisions effective January 1, 1995, the effective date of the amendments made to the Act by the Uruguay Round Agreements Act (“URAA”). In addition, all citations to the regulations of the Department of Commerce (“the Department”) are to 19 CFR part 351 (1998).

Scope of the Order

For purposes of this investigation, the product covered is creatine monohydrate, which is commonly referred to as “creatine.” The chemical name for creatine monohydrate is N-(aminoiminomethyl)-N-methylglycine monohydrate. The Chemical Abstracts Service (“CAS”) registry number for this product is 6020-87-7. Creatine monohydrate in its pure form is a white, tasteless, odorless powder, that is a naturally occurring metabolite found in muscle tissue. Creatine monohydrate is provided for in subheading 2925.20.90 of the Harmonized Tariff Schedule of the United States (“HTSUS”). Although the HTSUS subheading and the CAS registry number are provided for convenience and customs purposes, the written description of the merchandise under investigation is dispositive.

Antidumping Duty Order

On January 28, 2000, in accordance with section 735(d) of the Act, the U.S. International Trade Commission (“ITC”) notified the Department that a U.S. industry is “materially injured,” within the meaning of section 735(b)(1)(A) of the Act, by reason of less-than-fair-value imports of creatine monohydrate from the PRC. Therefore, the Department will direct the United States Customs Service to assess, upon further advice by the Department, antidumping duties equal to the amount by which the normal value of the subject merchandise exceeds the export price of the subject merchandise for all relevant entries of creatine monohydrate from the PRC, except for subject merchandise imported from Tianjin Tiancheng Pharmaceutical Co., Ltd. (“Tiancheng”) and Nantong Medicines and Health Products Import and Export Co., Ltd. (“Nantong”), which both received a zero final margin. Antidumping duties will be assessed on all unliquidated entries of creatine monohydrate from the People's Republic of China (“PRC”) (except entries from Tiancheng and Nantong) entered, or withdrawn from warehouse, for consumption on or after July 30, 1999, the date of publication of the Department's preliminary determination in the Federal Register (64 FR 41375). Furthermore, we will instruct Customs to refund all cash deposits, or bonds posted, for entries of subject merchandise from Tiancheng and Nantong.

The ITC further found that critical circumstances do not exist with respect to imports of the subject merchandise from the PRC. As a result, the Department will direct Customs officers to refund any cash deposits made, or bonds posted, pursuant to the Department's affirmative determination of critical circumstances on merchandise produced/exported by Shanghai Freemen International Trading Co., Ltd., Shanghai Greenmen International Trading Co., Ltd. and by any companies subject to the PRC-wide rate which were entered on or after May 1, 1999 (which is 90 days prior to the Department's preliminary determination publication date of July 30, 1999) and before July 30, 1999.

On or after the date of publication of this notice in the Federal Register, Customs officers must require, at the same time as importers would normally deposit estimated duties, cash deposits for the subject merchandise equal to the weighted-average antidumping duty margins as noted below:

Exporter/manufacturer | Weighted- average margin percentage
Blue Science International Trading (Shanghai) Co., Ltd. | 58.10
Nantong Medicines and Health Products Import and Export Co., Ltd. | 0.00
Shanghai Desano International Trading Co., Ltd. | 24.84
Shanghai Freemen International Trading Co., Ltd. and Shanghai Greenmen International Trading Co., Ltd. | 44.43
Suzhou Sanjian Fine Chemical Co., Ltd. | 50.32
Tianjin Tiancheng Pharmaceutical Co., Ltd. | 0.00
PRC-wide rate | 153.70

This notice constitutes the antidumping duty order with respect to creatine monohydrate from the PRC, pursuant to section 735(a) of the Act. Interested parties may contact the Central Records Unit, Room B-099 of the Main Commerce Building for copies of an updated list of antidumping duty orders currently in effect.

This order is published in accordance with sections 736(a) and 19 CFR 351.211.

Dated: January 31, 2000.
Holly A. Kuga,
Acting Assistant Secretary for Import Administration.

[FR Doc. 00-2582 Filed 2-3-00; 8:45 am]

BILLING CODE 3510-DS-P